DEPARTMENT OF ENERGY

Federal Energy Regulatory Commission

[Docket No. RP00-274-000]

Reliant Energy Gas Transmission Company; Notice of Proposed Changes in FERC Gas Tariff

May 11, 2000.

Take notice that on May 8, 2000, Reliant Energy Gas Transmission Company (REGT), tendered for filing the following pro forma tariff sheets:

Pro Forma Second Revised Sheet No. 1

Pro Forma First Revised Sheet No. 59

Pro Forma Original Sheet No. 70

Pro Forma Original Sheet No. 71

Pro Forma Original Sheet No. 72

Pro Forma Original Sheet No. 73

Pro Forma Original Sheet No. 74

Pro Forma Original Sheet No. 75

Pro Forma First Revised Sheet No. 286

Pro Forma Second Revised Sheet No. 289

Pro Forma Revised Sheet No. 290

REGT states that these tariff sheets would institute Rate Schedule ANS to provide automatic nomination (AutoNom) service. REGT has requested that the Commission review this filing in a manner that will permit Rate Schedule ANS to become effective on July 1, 2000.

Any person desiring to be heard or to protest said filing should file a motion to intervene or a protest with the Federal Energy Regulatory Commission, 888 First Street, NE, Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

David P. Boergers
Secretary.

[FR Doc. 00-12267 Filed 5-15-00; 8:45 am]

BILLING CODE 6717-01-M